DEPARTMENT OF JUSTICE

Antitrust Division

Notice Pursuant to the National Cooperative Research and Production Act of 1993—Nano-Engineered Thermal Interfaces Materials Enabling Next Generation Electronics

Notice is hereby given that, on October 2, 2003, pursuant to Section 6(a) of the National Cooperative Research and Production Act of 1993, 15 U.S.C. 4301 et seq. (“the Act”), Nano-Engineered Thermal Interfaces Materials Enabling Next Generation Microelectronics has filed written notifications simultaneously with the Attorney General and the Federal Trade Commission disclosing changes in its membership status. The notifications were filed for the purpose of extending the Act's provisions limiting the recovery of antitrust plaintiffs to actual damages under specified circumstances. Specifically, Cabot Corporation, Albuquerque, NM has been added as a party to this venture.

No other changes have been made in either the membership or planned activity of the group research project. Membership in this group research project remains open, and Nano-Engineered Thermal Interfaces Materials Enabling Next Generation Microelectronics intends to file additional written notification disclosing all changes in membership.

On October 2, 2003, Nano-Engineered Thermal Interfaces Enabling Next Generation Microelectronics filed its original notification pursuant to section 6(a) of the Act. The Department of Justice published a notice in Federal Register pursuant to section 6(b) of the Act on December 1, 2003 (68 FR 67216).

Dorothy B. Fountain,
Deputy Director of Operations Antitrust Division.

[FR Doc. 03-30737 Filed 12-11-03; 8:45 am]

BILLING CODE 4410-11-M